DEPARTMENT OF TRANSPORTATION

Federal Aviation Administration

[Summary Notice No. PE-2001-47]

Petitions for Exemption; Summary of Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on June 25, 2001.
Donald P. Bryne,
Assistant Chief Counsel for Regulations.

Dispositions of Petitions

Docket No.: FAA-2001-9463.

Petioner: Fare Share, Ltd.

Section of 14 CFR Affected: 14 CFR 135.143(c)(2).

Description of Relief Sought/Disposition: To permit FSL to operate certain aircraft under part 135 without a TSO-C112 (Mode S) transponder installed in the aircraft. Grant, 06/12/2001, Exemption No, 7542.

Docket No.: FAA-2001-9442.

Petitioner: Schroeder Sales, Inc., dba Greenwood Aviation.

Section of 14 CFR Affected: 14 CFR 135.143(c)(2).

Description of Relief Sought/Disposition: To permit Greenwood Aviation to operate certain aircraft under part 135 without a TSO-C112 (Mode S) transponder installed in the aircraft. Grant, 06/12/2001, Exemption No. 7541.

Docket No.: FAA-2001-9547.

Petitioner: Century Aviation.

Section of 14 CFR Affected: 14 CFR 135.143(c)(2).

Description of Relief Sought/Disposition: To permit Century Aviation to operate certain aircraft under part 135 without a TSO-C112 (Mode S) transponder installed in the aircraft. Grant, 06/12/2001, Exemption No. 7543.

Docket No.: FAA-2001-9772.

Petitioner: Leading Edge Aviation Services, Inc.

Section of 14 CFR Affected: 14 CFR 135.143(c)(2).

Description of Relief Sought/Disposition: To permit LEASI to operate certain aircraft under part 135 without a TSO-C112 (Mode S) transponder installed in the aircraft. Grant, 06/12/2001, Exemption No. 7545.

Docket No.: FAA-2201-9445.

Petitioner: Aurora Aviation.

Section of 14 CFR Affected: 14 CFR 135.143(c)(2).

Description of Relief Sought/Disposition: To permit Aurora Aviation to operate certain aircraft under part 135 without a TSO-C112 (Mode S) transponder installed in the aircraft. Grant, 06/12/2001, Exemption No. 7544.

Docket No.: FAA-2001-9687 (previously Docket No. 30098).

Petitioner: Pacific Helicopter Tours, Inc.

Section of 14 CFR Affected: 14 CFR 135.152(a).

Description of Relief Sought/Disposition: To allow PHI to operate its two Bell 212 helicopters (Serial Nos. 30951, and 30957) and its Sikorsky $61N helicopter (Serial No. 61821, Registration No. N264F) without those helicopters being equipped with an approved digital flight data recorder. Grant, 06/13/2001, Exemption No. 7257A.

Docket No.: FAA-2000-8860.

Petitioner: Franklin Products, Inc.

Section of 14 CFR Affected: 14 CFR 25.853(a).

Description of Relief Sought/Disposition: To provide Franklin Products with relief from the vertical burn test requirements for seat cushion assemblies constructed with non-compliant water-based adhesives. Partial Grant, 05/02/2001, Exemption No. 6634B.

Docket No.: FAA-2000-8580.

Petitioner: Fairchild Dornier GmbH.

Section of 14 CFR Affected: 14 CFR 25.562(b)(2).

Description of Relief Sought/Disposition: To permit Fairchild to obtain type certification of its Model 728-100 airplane without meeting the floor warpage testing requirements for crew and passenger seats. Grant, 06/04/2001, Exemption No. 7540.

Docket No.: FAA-2001-9369 (previously Docket No. 26732)

Petitioner: United Stated Customs Service

Section of 14 CFR Affected: 14 CFR 91.117(a), (b), and (c), 91.119(c), 91.159(a), and 91.209(a) and (d).

Description of Relief Sought/Disposition: To permit USCS to conduct drug interdiction air support. Grant, 06/05/2001, Exemption No. 5504C.

[FR Doc. 01-16313 Filed 6-27-01; 8:45 am]

BILLING CODE 4910-13-M